DEPARTMENT OF TRANSPORTATION

Federal Aviation Administration

14 CFR Part 39

[Docket No. 2002-NM-39-AD]

RIN 2120-AA64

Airworthiness Directives; Airbus Model A300 B4-600, B4-600R, and F4-600R (Collectively Called A300-600) Series Airplanes; and Model A310 Series Airplanes; Equipped With Pratt & Whitney JT9D-7R4 or 4000 Series Engines

AGENCY: Federal Aviation Administration, DOT.

ACTION: Notice of proposed rulemaking (NPRM).

SUMMARY: This document proposes the supersedure of an existing airworthiness directive (AD), applicable to certain Airbus Model A300-600 and A310 series airplanes, that currently requires deactivating both thrust reversers and revising the airplane flight manual (AFM) to ensure safe and appropriate performance during certain takeoff conditions. This action would require installing modifications that will add an independent third line of defense on the thrust reversers, which would enhance their redundancy and terminate the requirements of the existing AD. The actions specified by the proposed AD are intended to prevent in-flight deployment of the thrust reversers, which could result in reduced controllability of the airplane. This action is intended to address the identified unsafe condition.

DATES: Comments must be received by May 14, 2003.

ADDRESSES: Submit comments in triplicate to the Federal Aviation Administration (FAA), Transport Airplane Directorate, ANM-114, Attention: Rules Docket No. 2002-NM-39-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-39-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-39-AD.” The postcard will be date stamped and returned to the commenter.

Availability of NPRMs

Any person may obtain a copy of this NPRM by submitting a request to the FAA, Transport Airplane Directorate, ANM-114, Attention: Rules Docket No. 2002-NM-39-AD, 1601 Lind Avenue, SW., Renton, Washington 98055-4056.

Discussion

On December 15, 1998, the FAA issued AD 98-25-51, amendment 39-10952 (63 FR 70637, December 22, 1998), applicable to certain Airbus Model A300-600 and A310 series airplanes. That AD requires deactivating both thrust reversers and revising the airplane flight manual (AFM) to ensure safe and appropriate performance during certain takeoff conditions. That action was prompted by a report indicating that the thrust reverser of engine number 1 on an Airbus Model A300-600 series airplane deployed during climb. The requirements of that AD are intended to prevent in-flight deployment of a thrust reverser, which could result in reduced controllability of the airplane.

Actions Since Issuance of Previous Rule

Since AD 98-25-51 was issued, Airbus issued service information that provides instructions for reactivating the thrust reversers through the implementation of a program that involves parts replacement and repetitive inspections of the thrust reversers. The FAA approved this program as an alternative method of compliance (AMOC) with the requirements of AD 98-25-51, allowing for reactivation of the thrust reversers and removal of the AFM limitations.

The actions required by AD 98-25-51 and the reactivation program are considered “interim action.” Since issuance of that AD and the AMOC, the manufacturer has developed a modification to address the unsafe condition, and the FAA has determined that further rulemaking action is necessary; this proposed AD follows from that determination.

Explanation of Relevant Service Information

Airbus has issued the following service bulletins:

Service Bulletins

Airbus service bulletin— | For Airbus model— | Equipped with model—
A300-78-6017, dated August 6, 2001 | A300 B4-620 airplanes | PWJT9D-7R4 series engines.
A300-78-6018, dated July 17, 2001 | A300 B4-622R airplanes | PW4000 series engines.
A300-78-6020, dated August 10, 2001 | A300 B4-622 airplanes | PW4000 series engines.
A310-78-2018, dated June 1, 2001 | A310-222 and -322 series airplanes | PWJT9D-7R4 series engines.
A310-78-2019, dated May 2, 2001 | A310-324 and -325 series airplanes | PW4000 series engines.
A310-78-2020, dated June 1, 2001 | A310-221 and -222 series airplanes | PWJT9D-7R4 series engines.

These service bulletins describe procedures for installing modifications that will add an independent third line of defense on the thrust reverser system and consequently enhance its redundancy. The actions are intended to preclude a single/dual thrust reverser deployment due to failure of the first two lines of defense, or failure of mechanical retention means. The modifications comprise five parts:

• Retrofit of the new electrical circuit between the avionics compartment and the forward cargo compartment at frame (FR) 38.2.

• Retrofit of the new electrical circuit between the forward cargo compartment at FR 38.2 and the wing/pylon interfaces.

sbull Retrofit of the new electrical circuit in the engine pylons.

• Retrofit of the new electrical circuit in the avionics compartment.

• Installation of the synchronous shaft lock system and connection to the new electrical circuit.

Accomplishment of the actions specified in the service bulletins is intended to adequately address the identified unsafe condition. The Direction Générale de l'Aviation Civile (DGAC), which is the airworthiness authority for France, classified these service bulletins as mandatory and issued French airworthiness directive 2001-523(B), dated October 31, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 98-25-51 to continue to require deactivating both thrust reversers and revising the airplane flight manual (AFM) to ensure that safe and appropriate performance is achieved during certain takeoff conditions. (The AMOC described previously allows for re-activation of the thrust reversers and removal of the AFM limitations.) The proposed AD would also require installing modifications involving retrofit of a new electrical circuit at four locations and installation of the synchronous shaft lock system and connection to the new electrical circuit. The modifications would terminate the requirements of the existing AD, as well as the associated AMOC, which allows re-activation of the thrust reversers. The modifications would be required to be accomplished in accordance with the applicable service bulletins described previously.

Cost Impact

There are approximately 38 airplanes of U.S. registry that would be affected by this proposed AD. The FAA provides the following cost estimates for the actions specified in this proposed AD:

Cost Estimates

Action | Model/series | Work hours | Hourly labor rate | Parts cost | Cost per airplane
Actions currently required by AD 98-25-51
Thrust reverser deactivation | All | 2 | $60 | $0 | $120
AFM revision | All | 1 | 60 | 0 | 60
Proposed modification, per Service Bulletin
A310-78-2018 | A310-222 and -322 | 1,433 | 60 | 16,234 | 102,214
A310-78-2019 | A310-324 and -325 | 1,395 | 60 | 15,061 | 98,761
A310-78-2020 | A310-221 and -222 | 1,267 | 60 | 14,848 | 90,868
A300-78-6017 | A300 B4-620 | 817 | 60 | 13,810 | 62,830
A300-78-6018 | A300 B4-622R | 1,198 | 60 | 15,141 | 87,021
A300-78-6020 | A300 B4-622 | 817 | 60 | 10,760 | 59,780

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time for planning, gaining access and closing up, or performing other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10952 (63 FR 70637, December 22, 1998), and by adding a new airworthiness directive (AD), to read as follows:

Airbus: Docket 2002-NM-39-AD. Supersedes AD 98-25-51, Amendment 39-10952.

Applicability: The following airplanes; certificated in any category:

Table 1.—Applicability
Model— | Equipped with— | Except those modified in accordance with Airbus service bulletin— | Or modified in accordance with Airbus production modification—
A300 B4-620 | PWJT9D-7R4 series engines | A300-78-6017, dated August 6, 2001 | 12261, 12264, and 12265.
A300 B4-622 | PW4000 series engines | A300-78-6020, dated August 10, 2001 | 12262, 12263, 12265, and 12377; or 12262, 12263, and 12266.
A300 B4-622R | PW4000 series engines | A300-78-6018, dated July 17, 2001 | 12262, 12263, 12265, and 12377; or 12262, 12263, and 12266.
A310-221 | PWJT9D-7R4 series engines | A310-78-2020, dated June 1, 2001 | 12261, 12264, and 12265.
A310-222 | PWJT9D-7R4 series engines | A310-78-2020 or A310-78-2018, both dated June 1, 2001 | 12261, 12264, and 12265.
Airbus Model A310-324 and -325 | PW4000 series engines | A310-78-2019, dated May 2, 2001 | 12262, 12263, 12265, and 12377; or 12262, 12263, and 12266.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent in-flight deployment of a thrust reverser, which could result in reduced controllability of the airplane, accomplish the following:

Restatement of Requirements of AD 98-25-51

(a) Within the next 4 flight cycles after December 28, 1998 (the effective date of AD 98-25-51, amendment 39-10952), deactivate both thrust reversers in accordance with Airbus All Operators Telex (AOT) 78-08, dated November 30, 1998.

(b) Within the next 4 flight cycles after December 28, 1998, revise the Limitations Section of the FAA-approved Airplane Flight Manual (AFM) to include the following:

“The takeoff performance on wet and contaminated runways with thrust reversers deactivated shall be determined in accordance with Airbus Flight Operations Telex (FOT) 999.0124/98, dated November 30, 1998, as follows:

For takeoff on wet runways, use performance data in accordance with paragraph 4.1 of the FOT.

For takeoff on contaminated runways, use performance data in accordance with paragraph 4.2 of the FOT.

(Note: This supersedes any relief provided by the Master Minimum Equipment List (MMEL).)

Note 2: The “FCOM” referenced in Airbus Flight Operations Telex (FOT) 999.0124/98, dated November 30, 1998, is Airbus Industrie Flight Crew Operating Manual (FCOM), Revision 27 for Airbus Model A310 series airplanes and Revision 22 for A300-600 series airplanes. (The revision number is indicated on the List of Effective Pages (LEP) of the FCOM.)

New Requirements of This AD

Modification

(c) Within 1 year after the effective date of this AD, install modifications related to an independent third line of defense on the thrust reversers, in accordance with the applicable service bulletin listed in Table 2 of this AD. The modifications involve retrofit of a new electrical circuit at four locations and installation of the synchronous shaft lock system and connection to the new electrical circuit. After the modifications have been installed, the thrust reversers may be reactivated, and the AFM limitation specified by paragraph (b) of this AD may be removed from the AFM. Table 2 follows:

Table 2.—Service Information for Modification
For Airbus model— | Equipped with model— | Install the modification in accordance with Airbus service bulletin—
A300 B4-620 airplanes | PWJT9D-7R4 series engines | A300-78-6017, dated August 6, 2001.
A300 B4-622 airplanes | PW4000 series engines | A300-78-6020, dated August 10, 2001.
A300 B4-622R airplanes | PW4000 series engines | A300-78-6018, dated July 17, 2001.
A310-221 series airplanes | PWJT9D-7R4 series engines | A310-78-2020, dated June 1, 2001.
A310-222 series airplanes | PWJT9D-7R4 series engines | A310-78-2020 or A310-78-2018, both dated June 1, 2001.
A310-322 series airplanes | PWJT9D-7R4 series engines | A310-78-2018, dated June 1, 2001.
Airbus Model A310-324 and -325 series airplanes | PW4000 series engines | A310-78-2019, dated May 2, 2001.

Alternative Methods of Compliance

(d)(1) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

(2) Alternative methods of compliance, approved previously in accordance with AD 98-25-51, amendment 39-10952, are approved as alternative methods of compliance with the requirements of paragraphs (a) and (b) of this AD.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 4: The subject of this AD is addressed in French airworthiness directive 2001-523(B), dated October 31, 2001.

Issued in Renton, Washington, on April 8, 2003.
Vi L. Lipski,
Manager, Transport Airplane Directorate, Aircraft Certification Service.

[FR Doc. 03-9015 Filed 4-11-03; 8:45 am]

BILLING CODE 4910-13-P